ENVIRONMENTAL PROTECTION AGENCY

[ER-FRL-6624-3]

Environmental Impact Statements; Notice of Availability

Responsible Agency: Office of Federal Activities, General Information (202) 564-7167 or www.epa.gov/oeca/ofa.

Weekly receipt of Environmental Impact Statements

Filed November 26, 2001 Through November 30, 2001

Pursuant to 40 CFR 1506.9.

EIS No. 010501, Draft Supplement, FHW, NM, US 70 Corridor Improvement, Between Ruidoso Downs to Riverside, New Information and Circumstances, Implementation, Right-of-Way Acquisition, Lincoln County, NM, Comment Period Ends: January 22, 2002, Contact: Gregory D. Rawlings (505) 820-2027.

EIS No. 010502, Draft EIS, NAS, CA, Programmatic EIS—NASA Ames Development Plan (NADP) for Ames Research Center, New Research and Development Uses, Implementation, San Francisco Bay, Santa Clara County, CA, Comment Period Ends: January 28, 2002, Contact: Sandy Olliges (650) 604-3355. This document is available on the Internet at: http://researchpark.arc.nasa.gov.

EIS No. 010503, Final Supplement, AFS, UT, Rendezvous Vegetation Management Project, To the South Spruce Ecosystem Rehabilitation Project, Implementation, Dixie National Forest, Cedar City Ranger District, Iron and Kane Counties, UT, Wait Period Ends: January 07, 2002, Contact: Phillip G. Eisenhauer (435) 865-3200.

EIS No. 010504, Final EIS, FHW, TX, IH-10 West from Taylor Street to FM-1489, Construction and Reconstruction, Central Business District (CBD), Funding, Right-of-Way Permit and COE Section 404 Permit, Harris, Fort Bend and Waller Counties, TX, Wait Period Ends: January 07, 2002, Contact: John R. Mack (512) 536-5960.

EIS No. 010505, Draft Supplement, COE, FL, Central and Southern Florida Project, Tamiami Trail Feature (US Highway 41), Modified Water Deliveries to Everglades National Park, Dade County, FL, Comment Period Ends: February 04, 2002,

Contact: Jon Moulding (904) 232-2286.

Amended Notices

EIS No. 010419, Draft EIS, AFS, UT, Ray's Valley Road Realignment, Proposal to Reduce or Eliminate Adverse Impacts to Watershed, and Aquatic Species, Provide Safer Driving Conditions, Uinta National Forest, Spanish Fork Ranger District, Utah County, UT, Due: January 11, 2002, Contact: Renee Flanagan (801) 342-5145. Revision of FR notice published on 11/16/2001: CEQ Comment Period Ending 01/02/2002 has been Corrected to 1/11/2002.

Dated: December 4, 2001.
Joseph C. Montgomery,
Director, NEPA Compliance Division, Office of Federal Activities.

[FR Doc. 01-30380 Filed 12-6-01; 8:45 am]

BILLING CODE 6560-50-U